DEPARTMENT OF THE INTERIOR

Bureau of Land Management

[NV-930-1430-ET; NVN-37749]

Notice of Proposed Extension of Withdrawal and Opportunity for Public Meeting; Nevada

AGENCY: Bureau of Land Management, Interior.

ACTION: Notice.

SUMMARY: The Bureau of Land Management proposes to extend the withdrawal of 10.72 acres of public land in Elko County to protect an administrative site. The withdrawal being extended is Public Land Order No. 6540. This withdrawal will expire on June 25, 2004, unless extended. The land is currently withdrawn from surface entry and mining, but not mineral leasing laws, by Public Land Order No. 6540.

DATES: Comments and requests for a meeting should be received on or before May 12, 2003.

ADDRESSES: Comments and meeting requests should be sent to the Nevada State Director, BLM, 1340 Financial Blvd., P.O. Box 12000, Reno, Nevada 89520.

FOR FURTHER INFORMATION CONTACT: Dennis J. Samuelson, BLM Nevada State Office, 702-861-6532.

SUPPLEMENTARY INFORMATION: On December 10, 2002, a petition was approved allowing the Bureau of Land Management to file an application extend Public Land Order No. 6540 which withdrew 10.72 acres of public land to protect the Elko Field Office Administrative Site (Public Land Order No. 6540, 49 FR 22480, FR Doc. 84-14397, May 30, 1984). An extension, if approved, would continue the withdrawal from all forms of appropriation, including the mining laws, for the following described public land:

Mount Diablo Meridian

T. 34 N., R. 55 E.,

Sec. 1, S½NW¼ (within).

See Public Land Order No. 6540 for a detailed metes and bounds description.

The area described contains 10.72 acres in Elko County.

The BLM proposes to extend the withdrawal an additional 20 years through June 24, 2024. The extension of the withdrawal would protect the Elko Field Office Administrative Site.

This withdrawal extension will be processed in accordance with the regulations set forth in 43 CFR 2300.

For a period of 90 days from the date of publication of this notice, all persons who wish to submit comments, suggestions, or objections in connection with the proposed withdrawal extension may present their views in writing to the Nevada State Director of the Bureau of Land Management.

Notice is hereby given that an opportunity for a public meeting is afforded in connection with the proposed withdrawal extension. All interested persons who desire a public meeting for the purpose of being heard on the proposed extension must submit a written request to the Nevada State Director within 90 days from the date of publication of this notice. Upon determination by the authorized officer that a public meeting will be held, a notice of the time and place will be published in the Federal Register and at least one local newspaper 30 days before the scheduled date of the meeting.

Dated: December 18, 2002.
Jim Stobaugh,
Lands Team Lead.

[FR Doc. 03-3167 Filed 2-7-03; 8:45 am]

BILLING CODE 4310-HC-P